SECURITIES AND EXCHANGE COMMISSION

Proposed Collection; Comment Request

Upon Written Request, Copies Available From: Securities and Exchange Commission, Office of Filings and Information Services, Washington, DC 20549

Extension:

Regulation 12B, OMB Control No. 3235-0062, SEC File No. 270-70

Form 15, OMB Control No. 3235-0167, SEC File No. 270-170

Form F-4, OMB Control No. 3235-0325, SEC File No. 270-288

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Regulation 12B includes rules governing Securities Exchange Act of 1934 (“Exchange Act”) registration statements and reports. The purpose of the regulation is to set forth guidelines for the uniform preparation of Exchange Act documents. Regulation 12B is assigned one burden hour for administrative convenience because the regulation simply prescribes the disclosure that must appear in other filings under the federal securities laws.

Form 15 is a certification of termination of a class of security under Section 12(g) or notice of suspension of duty to file reports pursuant to Sections 13 and 15(d) of the Securities Exchange Act of 1934. The information collected is to inform the public when a registrant does not file periodic reports. Approximately 2,000 issuers file Form 15 annually and it takes approximately a total of 1.5 hours per response for a total of 3,000 annual burden hours.

Form F-4 is used by foreign issuers to register securities in business combinations, reorganizations and exchange offers pursuant to the federal securities laws. If the information disclosed on Form F-4 were not required, the objectives of the Securities Act would not be met. Form F-4 is filed by foreign issuers. Approximately 450 issuers file Form F-4 annually and it takes approximately 1,311 hours per response for a total of 589,950 annual burden hours.

Written comments are invited on: (a) Whether the proposed collection of information is necessary for the proper performance of the function of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, N.W. Washington, DC 20549.

Dated: June 12, 2001.
Margaret H. McFarland,
Deputy Secretary.

[FR Doc. 01-15626 Filed 6-20-01; 8:45 am]

BILLING CODE 8010-01-M